DEPARTMENT OF ENERGY

Federal Energy Regulatory Commission

[Docket No. ER00-2425-000]

New England Power Pool; Notice of Filing

May 16, 2000.

Take notice that on May 5, 2000, the New England Power Pool (NEPOOL) Participants Committee submitted the Fifty-Third Agreement Amending the New England Power Pool Agreement (Fifty-Fourth Agreement) which addresses affiliation and representation issues raised by end user applications for membership in NEPOOL.

A July 1, 2000 effective data has been requested.

The NEPOOL Participants Committee states that copies of these materials were sent to the New England state governors and regulatory commissions and the NEPOOL Participants.

Any person desiring to be heard or to protest such filing should file a motion to intervene or protest with the Federal Energy Regulatory Commission, 888 First Street NE, Washington, DC 20426, in accordance with Rules 211 and 214 of the Commission's Rules of Practice and Procedure (18 CFR 385.211 and 385.214). All such motions and protests should be filed on or before May 26, 2000. Protests will be considered by the Commission to determine the appropriate action to be taken, but will not serve to make protestants parties to the proceedings. Any person wishing to become a party must file a motion to intervene. Copies of this filing are on file with the Commission and are available and are available for public inspection. This filing may also be viewed on the Internet at http://www.ferc.fed.us/online/rims.htm (call 202-208-2222 for assistance).

Linwood A. Watson, Jr.,
Acting Secretary.

[FR Doc. 00-12714 Filed 5-19-00; 8:45 am]

BILLING CODE 6717-01-M